DEPARTMENT OF COMMERCE

National Oceanic and Atmospheric Administration

[RTID 0648-XA925]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, April 6, 2021, from 9 a.m. to 4 p.m.; Wednesday, April 7, 2021, from 9 a.m. to 4 p.m.; and Thursday, April 8, 2021 from 9 a.m. to 1 p.m. For agenda details, see SUPPLEMENTARY INFORMATION.

ADDRESSES: This meeting will be conducted entirely by webinar. Webinar registration details will be available on the Council's website at https://www.mafmc.org/briefing/april-2021.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda; though agenda items may be addressed out of order (changes will be noted on the Council's website when possible.)

Tuesday, April 6, 2021

Ecosystem Approach to Fisheries Management (EAFM) Updates

Updates on summer flounder recreational discard management strategy evaluation and other EAFM related activities

Summer Flounder, Scup, and Black Sea Bass Commercial/Recreational Allocation Amendment (Final Action)

Review public comments, AP recommendations, and FMAT input Consider final action

Wednesday, April 7, 2021

Blueline Tilefish Specifications

Develop and approve 2022-2024 blueline tilefish specifications

Golden Tilefish Multi-Year Specifications Framework

Meeting 1

Listening Session on President Biden's Executive Order on Tackling the Climate Crisis at Home and Abroad

Presentation and discussion

2021 Mid-Atlantic State of the Ecosystem Report and EAFM Risk Assessment

Review and provide feedback for future reports

East Coast Climate Change Scenario Planning Initiative

Update on NRCC discussions

Review plan for scenario planning process

Thursday, April 8, 2021

Northeast Fisheries Science Center Climate Science Presentation

Presentation on climate science underway at the Northeast Fisheries Science Center

Business Session

Committee Reports (SSC and Research Steering); Executive Director's Report (approve revised NTAP charter); Organization Reports; and Liaison Reports

Continuing and New Business

Although non-emergency issues not contained in this agenda may come before this group for discussion, in accordance with the Magnuson-Stevens Fishery Conservation and Management Act, those issues may not be the subject of formal action during these meetings. Actions will be restricted to those issues specifically identified in this notice and any issues arising after publication of this notice that require emergency action under section 305(c).

Special Accommodations

These meetings are physically accessible to people with disabilities. Requests for sign language interpretation or other auxiliary aid should be directed to Kathy Collins, (302) 526-5253, at least 5 days prior to the meeting date.

Authority: 16 U.S.C. 1801 et seq.

Dated: March 16, 2021.
Tracey L. Thompson,
Acting Deputy Director, Office of Sustainable Fisheries, National Marine Fisheries Service.

[FR Doc. 2021-05745 Filed 3-18-21; 8:45 am]

BILLING CODE 3510-22-P